DEPARTMENT OF DEFENSE

GENERAL SERVICES ADMINISTRATION

NATIONAL AERONAUTICS AND SPACE ADMINISTRATION

[OMB Control No. 9000-0167; Docket 2010-0083; Sequence 19]

Federal Acquisition Regulation; Information Collection; American Recovery and Reinvestment Act-Reporting Requirements—One-Time Reporting for First-Tier Subcontractors

AGENCY: Department of Defense (DOD), General Services Administration (GSA), and National Aeronautics and Space Administration (NASA).

ACTION: Notice of request for comments regarding an extension to an existing OMB clearance (9000-0167).

SUMMARY: Under the provisions of the Paperwork Reduction Act of 1995 (44 U.S.C. Chapter 35), the Federal Acquisition Regulation Regulatory Secretariat will be submitting to the Office of Management and Budget (OMB) a request to review and approve an extension of a currently approved information collection requirement concerning the American Recovery and Reinvestment Act-Reporting Requirements—One-Time Reporting for First-Tier Subcontractors.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before November 23, 2010.

ADDRESSES: Submit comments identified by Information Collection 9000-0167 by any of the following methods:

• Regulations.gov: http://www.regulations.gov. Submit comments via the Federal eRulemaking portal by inputting “Information Collection 9000-0167” under the heading “Enter Keyword or ID” and selecting “Search.” Select the link “Submit a Comment” that corresponds with “Information Collection 9000-0167”. Follow the instructions provided at the “Submit a Comment” screen. Please include your name, company name (if any), and “Information Collection 9000-0167” on your attached document.

• Fax: 202-501-4067.

• Mail: General Services Administration, Regulatory Secretariat (MVCB), 1800 F Street, NW., Room 4041, Washington, DC 20405. ATTN: Hada Flowers/IC 9000-0167.

Instructions: Please submit comments only and cite Information Collection 9000-0167, in all correspondence related to this collection. All comments received will be posted without change to http://www.regulations.gov, including any personal and/or business confidential information provided.

FOR FURTHER INFORMATION CONTACT: Mr. Ernest Woodson, Procurement Analyst, Contract Policy Branch, at telephone (202) 501-3775 or via e-mail to ernest.woodson@gsa.gov.

SUPPLEMENTARY INFORMATION:

A. Purpose

The Federal Acquisition Regulation (FAR) subpart 4.15, and clause 52.204-11 requires contractors to report on use of Recovery Act funds. Contracting officers must include the new clause in solicitations and contracts funded in whole or in part with Recovery Act funds, except classified solicitations and contracts. Commercial item contracts and Commercially Available Off-The-Shelf (COTS) item contracts will be covered, as well as actions under the simplified action threshold.

One-time reporting elements for which the burden is imposed only on the first-tier subcontractor under the FAR requirements include the following:

a. Unique identifier (DUNS Number) for the subcontractor receiving the award and for the subcontractor's parent company, if the subcontractor has a parent company((d)(10)(i));

b. Subcontractor's physical address including street address, city, state, and country. Also include the nine-digit zip code and congressional district if applicable ((d)(10)(ix)); and

c. Subcontract primary performance location including street address, city, state, and country. Also include the nine-digit zip code and congressional district if applicable ((d)(10)(x)).

B. Annual Reporting Burden

Respondents: 60,039.

Responses Per Respondent: 1.25.

Total Annual Reponses: 75,049.

Hours Per Response: .25.

Total Burden Hours: 18,762.

Obtaining Copies of Proposals: Requesters may obtain a copy of the information collection documents from the General Services Administration, Regulatory Secretariat (MVCB), 1800 F Street, NW., Room 4041, Washington, DC 20405, telephone (202) 501-4755. Please cite OMB Control No. 9000-0167, American Recovery and Reinvestment Act-Reporting Requirements—One-Time Reporting for First-Tier Subcontractors, in all correspondence.

Dated: September 17, 2010.
Edward Loeb,
Director, Acquisition Policy Division.

[FR Doc. 2010-23878 Filed 9-23-10; 8:45 am]

BILLING CODE 6820-EP-P